FEDERAL RESERVE SYSTEM

12 CFR Part 235

[Regulation II; Docket No. R-1818]

RIN 7100-AG67

Debit Card Interchange Fees and Routing; Extension of Comment Period

AGENCY: Board of Governors of the Federal Reserve System.

ACTION: Notice of proposed rulemaking; extension of comment period.

SUMMARY: On November 14, 2023, the Board of Governors of the Federal Reserve System (Board) published in the Federal Register a proposal that would update all three components of Regulation II's interchange fee cap based on the latest data reported to the Board by large debit card issuers, update the interchange fee cap every other year going forward by directly linking the interchange fee cap to data from the Board's biennial survey of large debit card issuers, and implement a set of technical revisions to the regulation. The proposal provided for a comment period ending on February 12, 2024. The Board is extending the comment period for 90 days, until May 12, 2024. Further, additional data concerning the proposed new methodology for determining the base component of the interchange fee cap are being made available on the Board's website.

DATES: The comment period for the proposed rulemaking published on November 14, 2023 (88 FR 78100) is extended. Comments must be received by May 12, 2024.

ADDRESSES: You may submit comments by any of the methods identified in the proposal.

FOR FURTHER INFORMATION CONTACT: Benjamin Snodgrass, Senior Counsel (202-263-4877) or Cody Gaffney, Senior Attorney (202-452-2674), Legal Division; or Krzysztof Wozniak, Section Chief (202-452-3878) or Elena Falcettoni, Senior Economist (202-452-2528), Division of Reserve Bank Operations and Payment Systems. For users of TTY-TRS, please call 711 from any telephone, anywhere in the United States or (202) 263-4869.

SUPPLEMENTARY INFORMATION: On November 14, 2023, the Board published in the Federal Register a proposal that would update all three components of Regulation II's interchange fee cap based on the latest data reported to the Board by large debit card issuers, update the interchange fee cap every other year going forward by directly linking the interchange fee cap to data from the Board's biennial survey of large debit card issuers, and implement a set of technical revisions to the regulation.¹

¹ 88 FR 78100 (Nov. 14, 2023).

The proposal provided for a comment period ending on February 12, 2024. Since the publication of the proposal, multiple commenters have requested that the Board extend the comment period, while one commenter has expressed opposition to any extension. An extension of the comment period will provide additional opportunity for interested parties to consider the proposal and prepare comments. Therefore, the Board is extending the end of the comment period for the proposal from February 12, 2024, to May 12, 2024.

In addition, to assist the public in commenting on the proposed new methodology for determining the base component of the interchange fee cap, additional data concerning this aspect of the proposal are being made available on the Board's website.²

² The additional data are being made available on the Reports and Data Collections page of the Regulation II section of the Board's website. See https://www.federalreserve.gov/paymentsystems/regii-data-collections.htm.

By order of the Board of Governors of the Federal Reserve System, acting through the Secretary of the Board under delegated authority, January 22, 2024.
Ann E. Misback,
Secretary of the Board.

[FR Doc. 2024-01612 Filed 1-26-24; 8:45 am]

BILLING CODE P